Title 3—

The President

Proclamation 8707 of September 2, 2011

Labor Day, 2011

By the President of the United States of America

A Proclamation

Every day, hard-working men and women across America prove that, even in difficult times, our country is still home to the most creative, dynamic, and talented workers in the world. Generations of working people have built this country—from our highways and skylines, to the goods and services driving us in the 21st century. On Labor Day and throughout the year, we celebrate our Nation’s workers, and we commit to supporting their efforts in moving our economy forward.

The right to organize and collectively bargain is a fundamental American value. Since its beginnings in our country, organized labor has raised our living standards and built our middle class. It is the reason we have a minimum wage, weekends away from work to rest and spend time with family, and basic protections in our workplaces. Many Americans today are given opportunities because their parents and grandparents fought for these basic rights and values. The principles upheld by the honorable laborers of generations past and their unions continue to fuel the growth of our economy and a strong middle class.

This year has seen a vigorous fight to protect these rights and values, and on this Labor Day, we reaffirm that collective bargaining is a cornerstone of the American dream. From public employees—including teachers, firefighters, police, and others who perform public services—to workers in private industries, these men and women hold the power of our Nation in their hands.

In the last several years, we have pulled our country back from the brink, through a series of tough economic decisions. While we have come far, great challenges still face us. Many Americans are still struggling, and many are unemployed. My Administration is working tirelessly each day to promote policies that get Americans back to work. We will always strive to keep our fundamental promise that, in America, anyone who works hard and acts responsibly can provide a better future for their children. When we come together, there is no limit to what the American workforce can do.

NOW, THEREFORE, I, BARACK OBAMA, President of the United States of America, by virtue of the authority vested in me by the Constitution and the laws of the United States, do hereby proclaim September 5, 2011, as Labor Day. I call upon all public officials and people of the United States to observe this day with appropriate programs, ceremonies, and activities that acknowledge the tremendous contributions of working Americans and their families.

IN WITNESS WHEREOF, I have hereunto set my hand this second day of September, in the year of our Lord two thousand eleven, and of the Independence of the United States of America the two hundred and thirty-sixth.

[FR Doc. 2011-23258

Filed 9-8-11; 8:45 am]

Billing code 3195-W1-P